DEPARTMENT OF AGRICULTURE

Submission for OMB Review; Comment Request

May 2, 2017.

The Department of Agriculture has submitted the following information collection requirement(s) to OMB for review and clearance under the Paperwork Reduction Act of 1995, Public Law 104-13. Comments are required regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 5, 2017 will be considered. Written comments should be addressed to: Desk Officer for Agriculture, Office of Information and Regulatory Affairs, Office of Management and Budget (OMB), New Executive Office Building, 725-17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: 7 CFR 765, Direct Loan Servicing—Regular.

OMB Control Number: 0560-0236.

Summary of Collection: Authority to establish the regulatory requirements contained in 7 CFR 765 is provided under 5 U.S.C. 301, which provides that “The Head of an Executive department or military department may prescribe regulations for the government of his department, the distribution and performance of its business . . .” The Secretary delegated authority to administer the provisions of the Act applicable to the Farm Loan Program (FLP) to the Under Secretary for Farm and Foreign Agricultural Service in section 2.16 of 7 CFR part 2. FLP provides loans to family farmers to purchase real estate equipment and finance agricultural production. The regulations covered by this information collection package describes, the policies and procedures the agency uses to service most FLP loans to ensure borrowers are meeting the requirements of their loan agreements.

Need and Use of the Information: Information requested under this collection is submitted by borrowers to the local agency office serving the county in which their business is headquartered. The information is used by the agency to manage application of proceeds from the sale of agency security, consider whether a borrower is in compliance with their loan covenants, assist the borrower in achieving their business goals, conduct day-to-day management of the agency's loan portfolio, and ensure that the agency's interests are protected. Failure to collect the information or collecting it less frequently could result in the failure of the farm operation or loss of agency security property or position.

Description of Respondents: Business or other for-profit; Farms.

Number of Respondents: 54,524.

Frequency of Responses: Reporting: On occasion; Annually.

Total Burden Hours: 82,565.

Ruth Brown,
Departmental Information Collection Clearance Officer.

[FR Doc. 2017-09138 Filed 5-4-17; 8:45 am]

BILLING CODE 3410-05-P